DEPARTMENT OF VETERANS AFFAIRS

Veterans' Research and Health Advisory Committee, Notice of Meeting

The Department of Veterans Affairs (VA) gives notice under the Federal Advisory Committee Act that the Veterans' Rural Health Advisory Committee will meet on May 23-24, 2017. The meeting will be held at 400 Veterans Avenue, Rec Hall in Bldg. 17, Biloxi, Mississippi 39531 on May 23-24 the meeting sessions will begin at 8:30 a.m. (EST) each day and adjourn at 5:00 p.m. (EST). The meetings are open to the public.

The purpose of the Committee is to advise the Secretary of Veterans Affairs on rural health care issues affecting Veterans. The Committee examines Programs and policies that impact the delivery of VA rural health care to Veterans and discusses ways to improve and enhance VA access to rural health care services for Veterans.

The agenda will include updates from Department leadership, Network Director South Central VA Health Care Network, Director Gulf Coast Veterans Health Care System and the Director Office of Rural Health and Committee Chairman, as well as presentations on general health care access.

Public comments will be received at 4:30 p.m. on May 24, 2018. Interested parties should contact Ms. Judy Bowie, via email at VRHAC@va.gov, via fax at (202) 632-8615, or by mail at 810 Vermont Avenue NW (10P1R), Washington, DC 20420. Individuals wishing to speak are invited to submit a 1-2 page summary of their comment for inclusion in the official meeting record. Any member of the public seeking additional information should contact Ms. Bowie at the phone number or email address noted above.

Dated: April 13, 2018.
LaTonya L. Small,
Federal Advisory Committee Management Office.

[FR Doc. 2018-08112 Filed 4-17-18; 8:45 am]

BILLING CODE P